DEPARTMENT OF HOMELAND SECURITY

Coast Guard

[Docket No. USCG-2019-0882]

BNSF Railway Bridge Across the Missouri River Between Bismarck and Mandan, North Dakota; Final Environmental Impact Statement

AGENCY: Coast Guard, DHS.

ACTION: Notice of availability for a Final Environmental Impact Statement.

SUMMARY: The Coast Guard announces the availability of a Final Environmental Impact Statement (EIS) for the proposed replacement of the BNSF Railway Bridge across the Missouri River between Bismarck and Mandan, North Dakota. This was prepared in compliance with the National Environmental Policy Act of 1969 (NEPA) and Council on Environmental Quality implementing regulations, and the National Historic Preservation Act (NHPA). This final EIS evaluates the potential environmental consequences of permitting the replacement of the existing BNSF Railway Bridge across the Missouri River between the cities of Bismarck and Mandan, ND, or the construction of a bridge adjacent to the existing bridge. The applicant proposes to remove the existing structure, which is eligible for listing on the National Register of Historic Places. The Coast Guard analyzed proposed alternatives, through the NEPA and NHPA processes, which included alternatives to construct the new bridge while retaining the existing bridge. The Coast Guard is making the final EIS available to the public on this docket. Section 4.0 of the final EIS identifies the preferred alternative, which is to construct a new bridge with 200-foot spans, and piers 20 feet upstream of the existing bridge, and to remove the existing structure.

DATES: The Coast Guard intends to issue a Record of Decision on November 28, 2022.

FOR FURTHER INFORMATION CONTACT: For information about this document call or email Rob McCaskey, Coast Guard District 8 Project Officer; telephone: 314-269-2381, or email: HQS-SMB-CG-BRG@uscg.mil.

Discussion

On January 8, 2020, the Coast Guard published a notice of intent to prepare an EIS (85 FR 930). On June 7, 2021, we published a notice of availability for a draft EIS seeking public comments, and announcement of a virtual meeting (86 FR 30323) for the BNSF Railway Bridge across the Missouri River between the cities of Bismarck and Mandan, ND. Lastly, on June 14, 2021, we published a notice of extension to the public comment period (86 FR 31509), which extended the comment period to July 26, 2021.

The notice of availability solicited substantive and relevant comments related to the draft EIS. On June 30, 2021, the Coast Guard held a virtual public meeting to receive written and oral comments on the draft EIS. Public comments yielded very few substantive changes. We are now providing notice of the availability of the final EIS.

We developed a final EIS that addresses impacts associated with the alternatives mentioned in section 2.0 of the draft EIS. These impacts include those environmental control laws listed in appendix B of the Coast Guard's Bridge Permit Application Guide (available at https://www.dco.uscg.mil/Portals/9/DCO%20Documents/5pw/Office%20of%20Bridge%20Programs/BPAG%20COMDTPUB%20P16591%203D_Sequential%20Clearance%20Final(July2016).pdf), as well as those impacts associated with floodplain rise, impacts to the Bismarck Water Reservoir and the Missouri River Natural Area. The final EIS also includes responses to all substantive and relevant comments received during the public comment period and virtual public meeting.

The Coast Guard, as lead agency, held 21 consultation meetings with stakeholders to satisfy the requirements of section 106 of the NHPA (54 U.S.C. 306108). On January 15, 2021, the Coast Guard and consulting parties signed a Programmatic Agreement to address the adverse effect on the existing historic bridge, and to provide third parties the opportunity to develop additional alternatives that would allow for retention of the bridge. The additional alternative presented during this process was not technically or economically feasible, so the Coast Guard and consulting parties developed a Memorandum of Agreement, which dictates mitigation measures for removal of the existing bridge. A consulting party, the Friends of the Rail Bridge, initiated termination of the Programmatic Agreement on February 22, 2022, and after additional consultation meetings, it was terminated on June 19, 2022. The Memorandum of Agreement was signed on September 27, 2022, and is available in appendix B of the final EIS.

This notice is issued under authority of NEPA, 42 U.S.C. 4321 et seq., Council on Environmental Quality implementing regulations in 40 CFR parts 1500 through 1508, and 5 U.S.C. 552(a).

Brian L. Dunn,
Chief, U.S. Coast Guard, Office of Bridge Programs.

[FR Doc. 2022-23466 Filed 10-27-22; 8:45 am]

BILLING CODE 9110-04-P